DEPARTMENT OF VETERANS AFFAIRS

Advisory Committee on CARES Business Plan Studies; Notice of Meeting

The Department of Veterans Affairs (VA) gives notice under the Public Law 92-463 (Federal Advisory Committee Act) that a meeting of the Advisory Committee on CARES Business Plan Studies will be held on October 19, 2006, from 4 p.m. to 8 p.m. at the VA Medical Center Saint Albans Campus, Pratt Auditorium, 179-00 Linden Boulevard, St. Albans, NY. The meeting is open to the public.

The purpose of the Committee is to provide advice to the Secretary of Veterans Affairs on proposed business plans at those VA facility sites identified in May 2004 as requiring further study by the Capital Asset Realignment for Enhanced Services (CARES) Decision document The agenda will include a discussion of the summary of the proposed space plan and siting of new multi-specialty outpatient clinic on the VA Medical Center St. Albans campus.

Interested persons may attend and present oral or written statements to the Committee. For additional information regarding the meetings, please contact Mr. Jay Halpern, Designated Federal Officer, (00CARES), 810 Vermont Avenue, NW., Washington, DC 20024 by phone at (202) 273-5994, or by e-mail at jay.halpern@hq.med.va.gov.

Dated: September 22, 2006.
By direction of the Secretary.
E. Philip Riggin,
Committee Management Officer.

[FR Doc. 06-8405 Filed 10-2-06; 8:45 am]

BILLING CODE 8320-01-M